DEPARTMENT OF TRANSPORTATION

Federal Aviation Administration

Notice of Availability of the Federal Aviation Administration Record of Decision and Adoption of Department of Navy's Final Environmental Impact Statement for Military Readiness Activities at the Naval Weapons Systems Training Facility Boardman, Oregon

AGENCY: Federal Aviation Administration, DOT.

ACTION: Notice of record of decision.

SUMMARY: The Federal Aviation Administration (FAA) announces its decision to adopt the Department of the Navy's (DoN) Final Environmental Impact Statement (EIS) for Military Readiness Activities at Naval Weapons Systems Training Facility Boardman, Oregon, EIS No. 20150355. In accordance with Section 102 of the National Environmental Policy Act of 1969 (“NEPA”), the Council on Environmental Quality's (“CEQ”) regulations implementing NEPA (40 CFR parts 1500-1508), and other applicable authorities, including The Federal Aviation Administration (FAA) Order 1050.1F, Environmental Impacts: Policies and Procedures, paragraph 8-2, and FAA Order JO 7400.2K, “Procedures for Handling Airspace Matters,” paragraph 32-2-3, the FAA has conducted an independent review and evaluation of the DoN's Final Environmental Impact Statement (EIS) for Military Readiness Activities at the at Naval Weapons Systems Training Facility (NWSTF) Boardman, Oregon, dated December 2015. As a cooperating agency with responsibility for approving special use airspace under 49 U.S.C. 40103(b)(3)(A), the FAA provided subject matter expertise and closely coordinated with the DoN during the environmental review process, including preparation of the Draft EIS and the Final EIS. Based on its independent review and evaluation, the FAA has determined the Final EIS, including its supporting documentation, as incorporated by reference, adequately assesses and discloses the environmental impacts of the for Military Readiness Activities at the at NWSTF Boardman, Oregon, and that adoption of the Final EIS by the FAA is authorized under 40 CFR 1506.3, Adoption. Accordingly, the FAA adopts the FEIS, and takes full responsibility for the scope and content that addresses the proposed changes to special use airspace for NWSTF Boardman.

FOR FURTHER INFORMATION CONTACT: Paula Miller, Airspace Policy and Regulations Group, Office of Airspace Services, Federal Aviation Administration, 800 Independence Avenue SW., Washington, DC 20591; telephone: (202) 267-7378.

SUPPLEMENTAL INFORMATION:

Background

In August 2012, in accordance with the National Environmental Policy Act and its implementing regulations, the DoN released a Draft EIS. The Draft EIS presented the potential environmental consequences of the DoN's proposal to achieve and maintain military readiness by analyzing the military training activities at NWSTF Boardman, Oregon. As a result of public, agency, and tribal comments during the 60-day public comment period on the Draft EIS, and the FAA aeronautical review process, the DoN, FAA, other federal and state agencies, and tribal governments have consulted to mitigate concerns while continuing to meet national defense training requirements. The DoN is the proponent for the NWSTF Boardman and is the lead agency for the preparation of the FEIS. The FAA is a cooperating agency responsible for approving special use airspace as defined in 40 CFR 1508.5.

Implementation

As a result of the public comments received, the aeronautical studies, environmental analysis, the FAA is establishing the Boardman Low Military Operations Area (MOA) and amending the Boardman MOA. The Boardman MOA legal description has been modified from the description circularized to the public from July 18 through August 31, 2014. After the conclusion of the Aeronautical Study comment period, the FAA changed the coordinates of the airspace action to incorporate the proposed expansion that was circularized to the public consistent with the intent of the proposal stated in the circular and Aeronautical Study recommendation. The result is the change amends the existing Boardman MOA's description instead of creating a separate MOA for the expansion area. One coordinate in the Boardman Low MOA was changed to more accurately reflect the airspace action. The revised legal descriptions do not change the special use airspace request or the analysis done in the Final EIS and the Aeronautical Study. The modification to the legal description did not change the area of analysis; therefore, the environmental and aeronautical analyses are still valid. The legal descriptions for the Boardman MOAs being established, as noted in this notice, will be published in the NFDD with a November 10, 2016 effective date. A copy of the FAA Record of Decision is available on the FAA Web site.

Right of Appeal

The Adoption/ROD for the changes to the Boardman MOAs constitutes a final order of the FAA Administrator and is subject to exclusive judicial review under 49 U.S.C. 46110 by the U.S. Circuit Court of Appeals for the District of Columbia or the U.S. Circuit Court of Appeals for the circuit in which the person contesting the decision resides or has its principal place of business. Any party having substantial interest in this order may apply for review of the decision by filing a petition for review in the appropriate U.S. Court of Appeals no later than 60 days after the date of this notice in accordance with the provisions of 49 U.S.C. 46110. Any party seeking to stay implementation of the action as stated in the ROD must file an application with the FAA prior to seeking judicial relief as provided in Rule 18(a) of the Federal Rules of Appellate Procedure.

Dated: October 6, 2016.
Richard Roberts,
Acting Manager, Operations Support Group, Western Service Center.

[FR Doc. 2016-24890 Filed 10-13-16; 8:45 am]

BILLING CODE 4910-13-P